DEPARTMENT OF HEALTH AND HUMAN SERVICES

Announcement of Requirements and Registration for “Health Innovations in Commuting Challenge”

AGENCY: Office of the National Coordinator for Health Information Technology, HHS.

ACTION: Notice.

SUMMARY: The purpose of this challenge is to highlight the role of health data during commutes and how it may play a critical role in improving the health of commuters. The “Health Innovations in Commuting Challenge” invites innovators to submit their best ideas and models for improving the health of American commuters through better collection, exchange, and analysis of health data.

The statutory authority for this challenge competition is Section 105 of the America COMPETES Reauthorization Act of 2010 (Pub. L. 111-358).

DATES: Effective on January 23, 2012.

FOR FURTHER INFORMATION CONTACT: Adam Wong, (202) 720-2866; Wil Yu, (202) 690-5920.

SUPPLEMENTARY INFORMATION:

Subject of Challenge Competition: Commuting is an essential and growing component of daily life for most American workers, making up about 20% of all trips taken—a significant percentage of the lives of one of the most critical segments of the American economy. Among the 140 million workers in America, 86.1% commuted in a car, truck, or van in 2009; 76.1% drove to work alone. The amount of time taken up by commuters in the U.S. is significant as workers took an average of 25.1 minutes to get to work; more than 3.2 million U.S. workers commute for more than 90 minutes. While commuting has been studied with regards to differences in gender, social status, ethnicity, and geographic location, relatively little is known about the health of workers during commutes beyond population studies on general health impact. Commuting has been shown to correlate with a variety of health factors, as long commutes are associated with health problems such as high cholesterol, recurring neck and back pain, and higher stress levels. The “Health Innovations in Commuting Challenge” is the first of a series of challenges dedicated to encouraging innovations that support improving the health of American commuters.

Eligibility Rules for Participating in the Competition:

To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

All participants are required to provide written consent to the rules upon or before submitting an entry.

Dates:

• Submission Period Begins: 12:01a.m., EDT, January 23, 2012.

• Submission Period Ends: 11:59 p.m., EDT, March 5, 2012.

Registration Process for Participants:

To register for this challenge participants should:

• Access the www.challenge.gov Web site and search for the “Health Innovations in Commuting Challenge”.

• Access the ONC Investing in Innovation (i2) Challenge Web site at:

○ http://www.health2challenge.org/category/onc/.

○ A registration link for the challenge can be found on the landing page under the challenge description.

Amount of the Prize:

• Winner will present the submission on an ONC-hosted webinar and will have opportunities for future collaboration with industry leaders.

Basis upon Which Winner Will be Selected:

The judging panel will make selections based upon the following criteria:

1. Novelty of proposals for commuter health data collection, dissemination, and analysis to drive improvement in health outcomes.

2. Identification and utility of potential future partnerships to further innovative development.

3. Understanding of effects of automobile commutes on health outcomes.

Additional Information:

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: January 23, 2012.
Farzad Mostashari,
National Coordinator for Health Information Technology.

[FR Doc. 2012-1846 Filed 1-26-12; 8:45 am]

BILLING CODE 4150-45-P